DEPARTMENT OF TRANSPORTATION (DOT)

Federal Aviation Administration

14 CFR Part 39

[Docket No. FAA-2004-19050; Directorate Identifier 2004-NM-139-AD]

RIN 2120-AA64

Airworthiness Directives; Empresa Brasileira de Aeronautica S.A. (EMBRAER) Model EMB-135 and -145 Series Airplanes

AGENCY: Federal Aviation Administration (FAA), DOT.

ACTION: Notice of proposed rulemaking (NPRM).

SUMMARY: The FAA proposes to adopt a new airworthiness directive (AD) for all EMBRAER Model EMB-135 and -145 series airplanes. This proposed AD would require a one-time inspection of each passenger service unit (PSU) to determine the serial number of the printed circuit board (PCB) installed in each PSU, replacement of the PCB if necessary, related investigative actions, and other specified actions. This proposed AD is prompted by reports that PSUs on two airplanes emitted smoke. We are proposing this AD to prevent failure of a PSU, which could result in smoke or fire in the airplane's passenger cabin.

DATES: We must receive comments on this proposed AD by October 12, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, Room PL-401, Washington, DC 20590.

• By fax: (202) 493-2251.

• Hand delivery: Room PL-401 on the plaza level of the Nassif Building, 400 Seventh Street, SW., Washington, DC, between 9 a.m. and 5 p.m., Monday through Friday, except Federal holidays.

For service information identified in this proposed AD, contact Empresa Brasileira de Aeronautica S.A. (EMBRAER), P.O. Box 343—CEP 12.225, Sao Jose dos Campos—SP, Brazil.

You can examine the contents of this AD docket on the Internet at http://dms.dot.gov, or at the Docket Management Facility, U.S. Department of Transportation, 400 Seventh Street SW., room PL-401, on the plaza level of the Nassif Building, Washington, DC.

FOR FURTHER INFORMATION CONTACT: Technical information: Todd Thompson, Aerospace Engineer, International Branch, ANM-116, FAA, Transport Airplane Directorate, 1601 Lind Avenue, SW., Renton, Washington 98055-4056; telephone (425) 227-1175; fax (425) 227-1149.

Plain language information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any relevant written data, views, or arguments regarding this proposed AD. Send your comments to an address listed under ADDRESSES. Include “Docket No. FAA-2004-19050; Directorate Identifier 2004-NM-139-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Departmento de Aviacao Civil (DAC), which is the airworthiness authority for Brazil, notified us that an unsafe condition may exist on all EMBRAER Model EMB-135 and -145 series airplanes. The DAC advises that passenger service units (PSUs) on two airplanes emitted smoke. The affected airplanes had not yet been delivered when the incidents occurred. Investigation revealed that the smoke was due to a failure on the printed circuit boards (PCBs) installed in the affected PSUs. The manufacturer has identified a batch of PCBs that are subject to this failure. This condition, if not corrected, could result in failure of a PSU, which could result in smoke or fire in the airplane's passenger cabin.

Relevant Service Information

EMBRAER has issued Service Bulletin 145-25-0277, Change 02, dated June 28, 2004. The service bulletin describes procedures for doing a one-time inspection of each PSU in the passenger cabin and lavatory to determine the serial number of the PCB installed in the PSU, replacing the PCB with a new or serviceable PCB if necessary, and doing related investigative actions and other specified actions. The investigative actions comprise, for all PSUs, a one-time general operational test of all PSUs and a one-time individual operational test of each PSU on which you replace the PCB. The other specified actions comprise installing placards on all inspected PSUs. Accomplishing the actions specified in the service information is intended to adequately address the unsafe condition. The DAC mandated the service information and issued Brazilian airworthiness directive 2004-05-02, dated June 2, 2004, to ensure the continued airworthiness of these airplanes in Brazil.

The EMBRAER service bulletin refers to C&D Aerospace Service Bulletin 7130000-25-79, Revision 2, dated June 17, 2004, as an additional source of service information for doing the proposed actions. The EMBRAER service bulletin includes the C&D Aerospace service bulletin.

FAA's Determination and Requirements of the Proposed AD

These airplane models are manufactured in Brazil and are type certificated for operation in the United States under the provisions of section 21.29 of the Federal Aviation Regulations (14 CFR 21.29) and the applicable bilateral airworthiness agreement. According to this bilateral airworthiness agreement, the DAC has kept us informed of the situation described above. We have examined the DAC's findings, evaluated all pertinent information, and determined that we need to issue an AD for products of this type design that are certificated for operation in the United States.

Therefore, we are proposing this AD, which would require you to do the actions in the service information described previously. The proposed AD would require you to use the service information described previously to perform these actions, except as discussed under “Differences Between the Proposed AD and EMBRAER Service Bulletin.”

Differences Between the Proposed AD and EMBRAER Service Bulletin

Although the EMBRAER service bulletin specifies that PCBs with affected serial numbers must be returned to C&D Aerospace, this proposed AD would not require you to do that.

Costs of Compliance

This proposed AD would affect about 539 airplanes of U.S. registry. The proposed actions would take about 3 work hours per airplane, at an average labor rate of $65 per work hour. Based on these figures, the estimated cost of the proposed AD for U.S. operators is $105,105, or $195 per airplane.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Empresa Brasileira de Aeronautica S.A. (EMBRAER): Docket No. FAA-2004-19050; Directorate Identifier 2004-NM-139-AD.

Comments Due Date

(a) The Federal Aviation Administration must receive comments on this AD action by October 12, 2004.

Affected ADs

(b) None.

Applicability

(c) This AD applies to all EMBRAER Model EMB-135 and -145 series airplanes, certificated in any category.

Unsafe Condition

(d) This AD was prompted by reports that passenger service units (PSUs) on two airplanes emitted smoke. We are issuing this AD to prevent failure of a PSU, which could result in smoke or fire in the airplane's passenger cabin.

Compliance

(e) You are responsible for having the actions required by this AD performed within the compliance times specified, unless the actions have already been done.

One-Time Inspection

(f) Within 90 days after the effective date of this AD, inspect each PSU in the passenger cabin and lavatory to determine the part number (P/N) and serial number (S/N) of the printed circuit board (PCB) installed in the PSU, in accordance with the Accomplishment Instructions of EMBRAER Service Bulletin 145-25-0277, Change 02, dated June 28, 2004.

(1) If the PCB is not P/N 7277220-501 with S/N 2108 through 6008 inclusive: Before further flight, do the applicable related investigative actions and other specified actions in accordance with the Accomplishment Instructions of the service bulletin. No further action is required by this paragraph.

(2) If the PCB is P/N 7277220-501 with S/N 2108 through 6008 inclusive: Before further flight, replace the PCB with a new or serviceable PCB having a S/N that is not within the range of 2108 through 6008 inclusive, and do the applicable related investigative actions and other specified actions, in accordance with the Accomplishment Instructions of the service bulletin.

Note 1: EMBRAER Service Bulletin 145-25-0277, Change 02, refers to C&D Aerospace Service Bulletin 7130000-25-79, Revision 2, dated June 17, 2004, as an additional source of service information for doing the required inspection, replacement, and related investigative actions, as applicable. The EMBRAER service bulletin includes the C&D Aerospace service bulletin.

Actions Done Previously

(g) Inspections, replacements, and related investigative actions done before the effective date of this AD in accordance with EMBRAER Service Bulletin 145-25-0277, dated October 22, 2003; or Change 01, dated November 28, 2003; are acceptable for compliance with the corresponding action required by this AD.

Parts Installation

(h) As of the effective date of this AD, no person may install a PCB having P/N 7277220-501 with S/N 2108 through 6008 inclusive, on any PSU on any airplane.

Returning Parts Not Required

(i) Where EMBRAER Service Bulletin 145-25-0277, Change 02, dated June 28, 2004, specifies to return any PCB with a subject S/N to C&D Aerospace, this AD does not require that action.

Alternative Methods of Compliance (AMOCs)

(j) The Manager, International Branch, ANM-116, Transport Airplane Directorate, FAA, has the authority to approve AMOCs for this AD, if requested in accordance with the procedures found in 14 CFR 39.19.

Related Information

(k) Brazilian airworthiness directive 2004-05-02, dated June 2, 2004, also addresses the subject of this AD.

Issued in Renton, Washington, on August 31, 2004.
Ali Bahrami,
Manager, Transport Airplane Directorate, Aircraft Certification Service.

[FR Doc. 04-20402 Filed 9-8-04; 8:45 am]

BILLING CODE 4910-13-P